DEPARTMENT OF THE TREASURY

Office of Thrift Supervision

Submission for OMB Review; Comment Request

February 2, 2001.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW., Washington, D.C. 20552.

DATES: Submit written comments on or before March 15, 2001.

OMB Number: 1550-0023.

Form Number: OTS Form 1313 and 1568.

Type of Review: Regular.

Title: Thrift Financial Report.

Description: OTS collects financial data from insured savings associations, their subsidiaries, and their holding companies in order to assure their safety and soundness as depositories of the personal monies of the general public. The OTS monitors financial positions and interest-rate risk so that adverse conditions can be remedied promptly.

Respondents: Savings and Loan Associations and Savings Banks.

Estimated Number of Responses: 1,060.

Estimated Burden Hours Per Response: 136 hours.

Frequency of Response: Quarterly.

Estimated Total Reporting Burden: 143, 810 hours.

Clearance Officer: Ralph E. Maxwell, (202) 906-7740, Office of Thrift Supervision, 1700 G Street, NW., Washington, D.C. 20552.

OMB Reviewer: Alexander Hunt, (202) 395-7860, Office of Management and Budget, Room 10202, New Executive Office Building, Washington, D.C. 20503.

John E. Werner,
Director, Information & Management Services.

[FR Doc. 01-3623 Filed 2-12-01; 8:45 am]

BILLING CODE 6720-01-P